DEPARTMENT OF TRANSPORTATION

Office of the Secretary

Notice of Request for Information Collection Approval

AGENCY: Office of the Secretary.

ACTION: Notice.

SUMMARY: In accordance with the Paperwork Reduction Act of 1995 (44 U.S.C. 3501 et seq.), this notice announces that the Information Collection Request (ICR) abstracted below has been forwarded to the Office of Management and Budget (OMB) for approval. The ICR describes the nature of the information collection and its expected cost and burden. The Federal Register Notice with a 60-day comment period soliciting comments on the following collection of information was published on October 31, 2005, [FR Vol. 70, No. 209, page 62368]. No comments were received.

DATES: Comments on this notice must be received by April 27, 2006: Attention DOT/OST Desk Officer, Office of Information and Regulatory Affairs, Office of Management and Budget, Docket Library, Room 10102, 725 17th Street, NW., Washington, DC 20503.

FOR FURTHER INFORMATION CONTACT: Caffin Gordon, Chief, Compliance Operations Division, S-34, Departmental Office of Civil Rights, Office of the Secretary, U.S. Department of Transportation, 400 Seventh Street, SW., Washington, DC 20590, (202) 366-9370 or (TTY) 202-366-0663.

SUPPLEMENTARY INFORMATION: Titles: Individual Complaint of Employment Discrimination.

OMB Numbers: New Collection.

Affected Public: Job applicants filing EEO employment discrimination complaints. An applicant's filing of an EEO employment complaint is solely voluntary.

Annual Estimated Burden: 16 hours.

Comments are invited on: Whether the proposed collection of Information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC on March 22, 2006.
Steven B. Lott,
Manager, IT Investment Management Office, Office of the Chief Information Officer, United States Department of Transportation.

[FR Doc. E6-4473 Filed 3-27-06; 8:45 am]

BILLING CODE 4910-62-P